INTERNATIONAL TRADE COMMISSION

[Investigation Nos. 731-TA-1186-1187 (Second Review)]

Stilbenic Optical Brightening Agents From China and Taiwan; Termination of Five-Year Reviews

AGENCY: United States International Trade Commission.

ACTION: Notice.

The Commission instituted the subject five-year reviews on October 3, 2022 (87 FR 59827) to determine whether revocation of the antidumping duty orders on stilbenic optical brightening agents from China and Taiwan would be likely to lead to continuation or recurrence of material injury. On December 29, 2022, the Department of Commerce published notice that it was revoking the orders effective November 27, 2022, because no domestic interested party responded to the sunset review notice of initiation by the applicable deadline (87 FR 80162). Accordingly, the subject reviews are terminated.

DATES: November 27, 2022 (effective date of revocation of the orders).

FOR FURTHER INFORMATION CONTACT: Peter Stebbins (202-205-2039), Office of Investigations, U.S. International Trade Commission, 500 E Street SW, Washington, DC 20436. Hearing-impaired individuals are advised that information on this matter can be obtained by contacting the Commission's TDD terminal on 202-205-1810. Persons with mobility impairments who will need special assistance in gaining access to the Commission should contact the Office of the Secretary at 202-205-2000. General information concerning the Commission may also be obtained by accessing its internet server (https://www.usitc.gov).

Authority: These reviews are being terminated under authority of title VII of the Tariff Act of 1930 and pursuant to section 751(c) of the Tariff Act of 1930 (19 U.S.C. 1675(c)). This notice is published pursuant to § 207.69 of the Commission's rules (19 CFR 207.69).

By order of the Commission.
Issued: January 4, 2023.
Katherine Hiner,
Acting Secretary to the Commission.

[FR Doc. 2023-00206 Filed 1-12-23; 8:45 am]

BILLING CODE 7020-02-P